DEPARTMENT OF ENERGY

Federal Energy Regulatory Commission

[Docket No. RP07-32-000]

Algonquin Gas Transmission, LLC; Notice of Reimbursement Filing

October 26, 2006.

Take notice that on October 23, 2006, Algonquin Gas Transmission, LLC (Algonquin) tendered for filing as a part of its FERC Gas Tariff, Fifth Revised Volume No. 1, First Revised Sheet No. 40, to be effective on December 1, 2006.

Algonquin states that it is making this Annual Fuel Reimbursement Quality (FRQ) Filing prior to the October 31 due date specified by its tariff to provide advance rate information to customers preparing for the upcoming winter. Algonquin states that the revised Fuel Reimbursement Percentages (FRP) proposed to be effective in this filing reflect a small increase compared to the last FRQ annual filing, specifically, an increase of 0.10% in the FRP for the Winter Period and an increase of 0.03% for the non-Winter period.

Algonquin further states that it is submitting the calculation of the deferral allocation pursuant to Section 32.5(c), which provides that Algonquin will calculate surcharges or refunds designed to amortize the net monetary value of the balance in the FRQ Deferred Account at the end of the previous accumulation period. Algonquin states that, for the period August 1, 2005 through July 31, 2006, the FRQ Deferred Account resulted in a net debit balance that will be surcharged to Algonquin's customers, based on the allocation of the account balance over the actual throughput quantities during the accumulation period, exclusive of backhauls.

Algonquin states that copies of this filing were served upon all affected customers of Algonquin and interested state commissions.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the date as indicated below. Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time November 2, 2006.

Magalie R. Salas,
Secretary.

[FR Doc. E6-18525 Filed 11-2-06; 8:45 am]

BILLING CODE 6717-01-P